DEPARTMENT OF THE TREASURY

Submission for OMB Review; Comment Request

September 26, 2007.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before November 1, 2007 to be assured of consideration.

Treasury Inspector General for Tax Administration (TIGTA)

OMB Number: 1591—New.

Type of Review: Emergency.

Title: Refund Anticipation Loans—Individual Taxpayers.

Description: The Treasury Inspector General for Tax Administration (TIGTA), as part of its FY 2008 audit plan, will interview, via survey, a valid sample of individual taxpayers who received Refund Anticipation Loans (RALs) after submitting electronically filed (e-file) tax returns. RALs target low-income taxpayers, especially those who receive an Earned Income Tax Credit (EITC) or who do not have banking accounts. Because the duration of a RAL is approximately 7-14 days (the difference between the time a RALs are obtained and when they are repaid by with taxpayers' refunds), fees for these loans translate into triple digit annualized interest rates. While the IRS has eliminated the marketing of RALs from its Free File Program, educating taxpayers about the cost and burden of RALs and the ability to receive refunds quickly without RALs would further help reduce the financial burden RALs place on taxpayers. In addition, this data will help in learning how RALs affect tax administration, what changes are possible and could be taken to better monitor e-file providers, and what actions could be taken to mitigate burden through taxpayer education and/or changes to the administration of the tax system.

Respondents: Individuals or Households.

Estimated Total Burden Hours: 51 hours.

Clearance Officer: Joseph Ananka, (202) 622-5964, Treasury Inspector General for Tax Administration, 1125 15th Street, NW., Suite 700A, Washington, DC 20005.

OMB Reviewer: Alexander T. Hunt, (202) 395-7316, Office of Management and Budget, Room 10235, New Executive Office Building, Washington, DC 20503.

Robert Dahl,
Treasury PRA Clearance Officer.

[FR Doc. E7-19366 Filed 10-1-07; 8:45 am]

BILLING CODE 4830-01-P